DEPARTMENT OF LABOR

Agency Information Collection Activities; Submission for OMB Review; Comment Request; Required Elements of an Unemployment Insurance (UI) Reemployment Services and Eligibility Assessment (RESEA) Grant State Plan

ACTION: Notice of availability; request for comments.

SUMMARY: The Department of Labor (DOL) is submitting this Employment and Training Administration (ETA)-sponsored information collection request (ICR) to the Office of Management and Budget (OMB) for review and approval in accordance with the Paperwork Reduction Act of 1995 (PRA). Public comments on the ICR are invited.

DATES: The OMB will consider all written comments that the agency receives on or before December 26, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Michael Howell by telephone at 202-693-6782, or by email at DOL_PRA_PUBLIC@dol.gov.

SUPPLEMENTARY INFORMATION: The Department of Labor (Department), Employment and Training Administration (ETA) is submitting this Information Collection Request (ICR) to implement and collect an annual Reemployment Services and Eligibility Assessment (RESEA) state plan as described in Section 306(e) of the Social Security Act (SSA). On February 9, 2018, the President signed the Bipartisan Budget Act of 2018, Public Law 115-123 (BBA), which included amendments to the SSA that create a permanent authorization for the RESEA program. Section 306 of the SSA introduced several new program requirements including the requirement that states must submit an annual state plan to be considered eligible for funding. To be considered eligible for RESEA funding for a Fiscal Year, a state must submit a state plan that outlines how the state intends to conduct a program of reemployment services and eligibility assessments by responding to all the required elements identified in Section 306(e) of the SSA and this ICR. For additional substantive information about this ICR, see the related notice published in the Federal Register on May 13, 2025 (90 FR 20316).

Comments are invited on: (1) whether the collection of information is necessary for the proper performance of the functions of the Department, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-ETA.

Title of Collection: Required Elements of an Unemployment Insurance (UI) Reemployment Services and Eligibility Assessment (RESEA) Grant State Plan.

OMB Control Number: 1205-0538.

Affected Public: State, Local and Tribal Government.

Total Estimated Number of Respondents: 53.

Total Estimated Number of Responses: 53.

Total Estimated Annual Time Burden: 2,120 hours.

Total Estimated Annual Other Costs Burden: $0.

(Authority: 44 U.S.C. 3507(a)(1)(D))

Michael Howell,
Senior Paperwork Reduction Act Analyst.

[FR Doc. 2025-20851 Filed 11-24-25; 8:45 am]

BILLING CODE 4510-FN-P